DEPARTMENT OF DEFENSE

Department of the Army; Corps of Engineers

Notice of Availability of a Supplement to the Draft Environmental Impact Statement (SDEIS) and Extension of Comment Period for the Proposed Potash Corporation of Saskatchewan Phosphate Mine Continuation Near Aurora, in Beaufort County, NC

AGENCY: Department of the Army, U.S. Army Corps of Engineers, DoD.

ACTION: Notice; extension of comment period.

SUMMARY: The notice of availability of Supplement I of the Draft Environmental Impact Statement for the request for Department of the Army authorization, pursuant to Section 404 of the Clean Water Act and Section 10 of the Rivers and Harbor Act, from Potash Corporation of Saskatchewan Phosphate Division (PCS) for the continuation of its phosphate mining operation near Aurora, Beaufort County, NC published in the Federal Register on Tuesday, November 6, 2007 (72 FR 62634), required comments be submitted by December 21, 2007. The comment period has been extended until December 31, 2007.

FOR FURTHER INFORMATION CONTACT: Tom Walker, Telephone (828) 271-7980 ext. 222.

Brenda S. Bowen,
Army Federal Register Liaison Officer.

[FR Doc. E7-24892 Filed 12-20-07; 8:45 am]

BILLING CODE 3710-GN-P